POSTAL SERVICE

39 CFR PART 111

General Information on Postal Service

AGENCY: Postal Service.

ACTION: Final rule.

SUMMARY: The Postal Service announces the issuance of Issue 300, dated May 11, 2009, of the Mailing Standards of the United States Postal Service, Domestic Mail Manual (DMM), and its incorporation by reference in the Code of Federal Regulations.

DATES: Effective Date: This final rule is effective on June 4, 2010. The incorporation by reference of Issue 300, May 11, 2009, of the DMM is approved by the Director of the Federal Register as of June 4, 2010.

FOR FURTHER INFORMATION CONTACT: Lizbeth Dobbins (202) 268-3789.

SUPPLEMENTARY INFORMATION: The most recent Issue 300 of the Domestic Mail Manual (DMM) was issued on May 11, 2009.

This Issue of the DMM contains all Postal Service domestic mailing standards. This issue continues to (1) increase the user's ability to find information, (2) increase confidence that users have found all the information they need, and (3) reduce the need to consult multiple chapters of the Manual to locate necessary information. Issue 300, dated May 11, 2009, set forth specific changes, such as new standards throughout the DMM to support the pricing changes approved by the Governors of the United States Postal Service. The new prices and standards were effective May 11, 2009. Changes to mailing standards will continue to be published through Federal Register notices and the Postal Bulletin, and will appear in the next printed version of Mailing Standards of the United States Postal Service, Domestic Mail Manual, and in the online version available via Postal Explorer http://pe.usps.com.

List of Subjects in 39 CFR Part 111

Administrative practice and procedure, Incorporation by reference.

In view of the considerations discussed above, the Postal Service hereby amends 39 CFR Part 111 as follows:

PART 111—GENERAL INFORMATION ON POSTAL SERVICE

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, 5001.

2. Amend § 111.3(f) by adding the following new entry at the end of the table: § 111.3 Amendment to the Mailing Standards of the United States Postal Service, Domestic Mail Manual.

* * * * *

(f) * * *

Transmittal letter for issue publication | Dated | Federal Register
Issue 300 | May 12, 2008 | [Insert FR citation for this Final Rule].
Issue 300 | May 11, 2009 | [Insert FR citation for this Final Rule].

3. Amend § 111.4 by removing “May 7, 2008” and adding “June 4, 2010”.

Neva R. Watson,
Attorney, Legislative.

[FR Doc. 2010-13356 Filed 6-3-10; 8:45 am]

BILLING CODE 7710-12-P